DEPARTMENT OF COMMERCE

International Trade Administration

[C-489-806]

Pasta From Turkey: Preliminary Results of Countervailing Duty Administrative Review; 2014

AGENCY: Enforcement and Compliance, International Trade Administration, Department of Commerce.

SUMMARY: The Department of Commerce (the Department) preliminarily determines that countervailable subsidies are being provided to producers and exporters of certain pasta from Turkey. The period of review is January 1, 2014 through December 31, 2014. Interested parties are invited to comment on these preliminary results of review.

DATES: Effective August 10, 2016.

FOR FURTHER INFORMATION CONTACT: Jennifer Shore or Mark Kennedy, AD/CVD Operations, Office I, Enforcement and Compliance, International Trade Administration, U.S. Department of Commerce, 1401 Constitution Avenue, Washington, DC 20230; telephone: (202) 482-2778 or (202) 482-7883, respectively.

Scope of the Order

The product covered by this administrative review is pasta from Turkey. For a full description of the scope of this order see the Preliminary Decision Memorandum.¹

¹ See Memorandum, “Decision Memorandum for Preliminary Results of Countervailing Duty 2014 Administrative Review of Pasta from Turkey,” dated concurrently with, and hereby adopted by, this notice (Preliminary Decision Memorandum).

Methodology

The Department is conducting this countervailing duty (CVD) administrative review in accordance with section 701 of the Tariff Act of 1930, as amended (the Act). For each of the subsidy programs found countervailable, we preliminarily determine that there is a subsidy (i.e., a financial contribution by an “authority” that gives rise to a benefit to the recipient) and that the subsidy is specific.² For a full description of the methodology underlying our preliminary conclusions, see the Preliminary Decision Memorandum.

² See sections 771(5)(B) and (D) of the Act regarding financial contribution; section 771(5)(E) of the Act regarding benefit; and section 771(5A) of the Act regarding specificity.

A list of topics discussed in the Preliminary Decision Memorandum is included as Appendix I to this notice.

The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

Preliminary Results of Review

As a result of this review, we preliminarily determine a net countervailable subsidy rate of 2.21 percent ad valorem for Bessan Makarna Gida San. Ve Tic. A.Ş, for the period January 1, 2014, through December 31, 2014.

Disclosure and Public Comment

The Department intends to disclose to interested parties the calculations performed in connection with these preliminary results within five days of the date of publication of this notice.³ Pursuant to 19 CFR 351.309(c), interested parties may submit case briefs no later than 30 days after the date of publication of these preliminary results of review. Parties who submit arguments are requested to submit with the argument: (1) A statement of the issue; (2) a brief summary of the argument; and (3) a table of authorities.⁴ Rebuttals to case briefs may be filed no later than five days after the deadline for filing case briefs, and all rebuttal comments must be limited to comments raised in the case briefs.⁵ Case and rebuttal briefs should be filed electronically using ACCESS.⁶

³ See 19 CFR 351.224(b).

⁴ See 19 CFR 351.309(c)(2) and (d)(2).

⁵ See 19 CFR 351.309(d).

⁶ See 19 CFR 351.303.

Pursuant to 19 CFR 351.310(c), interested parties who wish to request a hearing must submit a written request to the Assistant Secretary for Enforcement and Compliance, U.S. Department of Commerce, filed electronically using ACCESS. An electronically-filed request must be received successfully, and in its entirety, by ACCESS by 5:00 p.m. Eastern Time, within 30 days after the date of publication of this notice. Requests should contain the party's name, address, and telephone number; the number of participants; and a list of the issues to be discussed. If a request for a hearing is made, the Department intends to hold the hearing at the U.S. Department of Commerce, 1401 Constitution Avenue NW., Washington, DC 20230, at a date, time, and specific location to be determined. Parties will be notified of the date, time, and location of any hearing. Parties should confirm by telephone the date, time, and location of the hearing two days before the scheduled date.

Unless the deadline is extended pursuant to section 751(a)(3)(A) of the Act, the Department will issue the final results of this administrative review, including the results of its analysis of issues raised in any written briefs, not later than 120 days after the date of publication of this notice, pursuant to section 751(a)(3)(A) of the Act.

Assessment Rates

Upon issuance of the final results, the Department shall determine, and U.S. Customs and Border Protection (CBP) shall assess, countervailing duties on all appropriate entries covered by this review. We intend to issue instructions to CBP 15 days after publication of the final results of this review.

Cash Deposit Instructions

The Department also intends to instruct CBP to collect cash deposits of estimated countervailing duties in the amount shown above. For all non-reviewed firms, we will instruct CBP to collect cash deposits of estimated countervailing duties at the most recent company-specific or all-others rate applicable to the company. These cash deposit requirements, when imposed, shall remain in effect until further notice.

Notification to Interested Parties

This administrative review and notice are in accordance with sections 751(a)(1) and 777(i)(1) of the Act and 19 CFR 351.213.

Dated: August 3, 2016.
Ronald K. Lorentzen,
Acting Assistant Secretary for Enforcement and Compliance.

Appendix I—List of Topics Discussed in the Preliminary Decision Memorandum

I. Summary

II. Background

III. Scope of the Order

IV. Subsidy Valuation Information

V. Analysis of Programs

VI. Recommendation

[FR Doc. 2016-19017 Filed 8-9-16; 8:45 am]

BILLING CODE 3510-DS-P